NATIONAL SCIENCE FOUNDATION

Special Emphasis Panel in Experiment and Integrative Activities; Notice of Meeting

In accordance with the Federal Advisory Committee Act (Pub. L. 92-463, as amended), the National Science Foundation announces the following meeting:

Name: Special Emphasis Panel in Experimental & Integrative Activities (1193).

Date/Time: June 11, 2001; 8:30 a.m.-5:30 p.m.

Place: National Science Foundation, 4201 Wilson Blvd., Arlington, VA.

Type of Meeting: Closed.

Contact Person: Dr. Caroline Wardle, CISE Information Technology Workforce (ITWF), Experimental and Integrative Activities, Room 1160, National Science Foundation, 4201 Wilson Boulevard, VA 22230 Telephone: (703) 292-8980.

Purpose of Meeting: To provide advice and recommendations concerning proposals submitted to the National Science Foundation for financial support.

Agenda: To review and evaluate CISE Information Technology Workforce (ITWF) proposals submitted in response to the program announcement (NSF 01-33).

Reason for Closing: The proposals being reviewed include information of a proprietary or confidential nature, including technical information; financial data, such as salaries; and personal information concerning individuals associated with the proposals. These matters are exempt under 5 U.S.C. 552b(c), (4) and (6) of the Government in the Sunshine Act.

Dated: May 1, 2001.
Susanne Bolton,
Committee Management Officer.

[FR Doc. 01-11291 Filed 5-3-01; 8:45 am]

BILLING CODE 7555-01-M